DEPARTMENT OF DEFENSE

Defense Contract Audit Agency

Membership of the Defense Contract Audit Agency Senior Executive Service Performance Review Boards

AGENCY: Defense Contract Audit Agency, DoD.

ACTION: Notice of Membership of the Defense Contract Audit Agency Senior Executive Service Performance Review Boards.

SUMMARY: This notice announces the appointment of members to the Defense Contract Audit Agency (DCAA) Performance Review Boards. The Performance Review Boards provide fair and impartial review of Senior Executive Service (SES) performance appraisals and make recommendations to the Director, Defense Contract Audit Agency, regarding final performance ratings and performance awards for DCAA SES members.

DATES: Effective Date: September 12, 2006.

FOR FURTHER INFORMATION CONTACT: Rita Blakeslee, Chief, Human Resources Management Division, Defense Contract Audit Agency, 8725 John J. Kingman Road, Suite 2135, Fort Belvoir, Virginia 22060-6219, (703) 767-1236.

SUPPLEMENTARY INFORMATION: In accordance with 5 U.S.C. 4314(c)(4), the following are the names and titles of DCAA career executives appointed to serve as members of the DCAA Performance Review Boards. Appointees will serve one-year terms effective upon publication of this notice.

Headquarters Performance Review Board

Mr. Joseph Garcia, Assistant Director, Operations, DCAA, chairperson.

Mr. Ken Saceoccia, Assistant Director, Policy and Plans, DCAA, member.

Mr. John Farenish, General Counsel, DCAA, Member.

Regional Performance Review Board

Mr. Michael Steen, Regional Director, MidAtlantic Region, DCAA, chairperson.

Mr. Ed Nelson, Regional Director, Northeastern Region, DCAA, member.

Mr. Paul Phillips, Regional Director, Eastern Region, member.

Dated: September 5, 2006.
C.R. Choate,
Alternate OSD Federal Register Liaison Officer, Department of Defense.

[FR Doc. 06-7589 Filed 9-11-06; 8:45 am]

BILLING CODE 5001-06-M